SMALL BUSINESS ADMINISTRATION

[Disaster Declaration #12490 and #12491]

CALIFORNIA Disaster #CA-00165

AGENCY: U.S. Small Business Administration.

ACTION: Notice.

SUMMARY: This is a notice of an Administrative declaration of a disaster for the State of CALIFORNIA dated 03/16/2011.

Incident: Garden Breeze Apartment Complex Fire.

Incident Period: 02/20/2011.

DATES: Effective Date: 03/16/2011.

Physical Loan Application Deadline Date: 05/16/2011.

Economic Injury (EIDL) Loan Application Deadline Date: 12/16/2011.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties

San Bernardino.

Contiguous Counties: California

Inyo, Kern, Los Angeles, Orange, Riverside.

Arizona

La Paz, Mohave.

Nevada

Clark.

The Interest Rates are:

| Percent
For Physical Damage:
Homeowners with Credit Available Elsewhere | 5.125
Homeowners without Credit Available Elsewhere | 2.563
Businesses with Credit Available Elsewhere | 6.000
Businesses without Credit Available Elsewhere | 4.000
Non-Profit Organizations with Credit Available Elsewhere | 3.250
Non-Profit Organizations without Credit Available Elsewhere | 3.000
For Economic Injury:
Businesses & Small Agricultural Cooperatives without Credit Available Elsewhere | 4.000
Non-Profit Organizations without Credit Available Elsewhere | 3.000

The number assigned to this disaster for physical damage is 12490 5 and for economic injury is 12491 0.

The States which received an EIDL Declaration # are California, Arizona, Nevada.

(Catalog of Federal Domestic Assistance Numbers 59002 and 59008)

Dated: March 16, 2011.
Karen G. Mills,
Administrator.

[FR Doc. 2011-6671 Filed 3-21-11; 8:45 am]

BILLING CODE 8025-01-P